GENERAL SERVICES ADMINISTRATION

[FMR Bulletin PBS-2009-B2]

Federal Management Regulation; Redesignations of Federal Buildings

AGENCY: Public Buildings Service (P), GSA.

ACTION: Notice of a bulletin.

SUMMARY: The attached bulletin announces the redesignations of six Federal buildings.

DATES: Expiration Date: This bulletin expires April 2010. However, the building redesignations announced by this bulletin will remain in effect until canceled or superseded.

FOR FURTHER INFORMATION CONTACT: U.S. General Services Administration, Public Buildings Service (P), Attn: Anthony E. Costa, 1800 F Street, NW., Washington, DC 20405; e-mail: anthony.costa@gsa.gov; telephone: (202) 501-1100.

Dated: October 30, 2009.
Paul F. Prouty,
Acting Administrator of General Services.

U.S. GENERAL SERVICES ADMINISTRATION

FMR BULLETIN PBS-2009-B2

REDESIGNATIONS OF FEDERAL BUILDINGS

TO: Heads of Federal Agencies

SUBJECT: Designations and Redesignations of Federal Buildings

1. What is the purpose of this bulletin? This bulletin announces the designations and redesignations of six Federal buildings.

2. When does this bulletin expire? This bulletin expires April 2010. However, the building designations and redesignations announced in this bulletin will remain in effect until canceled or superseded.

3. Designations. The names of the buildings being designated are as follows:

Ronald H. Brown United States, Mission to the United Nations Building, 799 United Nations Plaza, New York, NY 10017.

Ralph Regula Federal Building and United States Courthouse, 301-401 McKinley Avenue, SW., Canton, OH 44707.

4. Redesignations. The former and new names of the redesignated buildings are as follows:

Former name | New name
Federal Building and United States Courthouse, 306 East Main Street, Elizabeth City, NC 27909 | J. Herbert W. Small Federal Building and United States Courthouse, 306 East Main Street, Elizabeth City, NC 27909
United States Courthouse, 525 Magoffin Avenue, El Paso, TX 79901 | Albert Armendariz, Sr., United States Courthouse, 525 Magoffin Avenue, El Paso, TX 79901
Federal Building, 844 North Rush Street, Chicago, IL 60611 | William O. Lipinski Federal Building, 844 North Rush Street, Chicago, IL 60611
United States Courthouse, 301 Simonton Street, Key West, FL 33040 | Sidney M. Aronovitz United States Courthouse, 301 Simonton Street, Key West, FL 33040.

5. Whom should we contact for further information regarding redesignation of these Federal buildings? U.S. General Services Administration, Public Buildings Service (P), Attn: Anthony E. Costa, 1800 F Street, NW., Washington, DC 20405; telephone number: (202) 501-1100; e-mail: anthony.costa@gsa.gov.

Paul F. Prouty,
Acting Administrator of General Services.

[FR Doc. E9-27029 Filed 11-10-09; 8:45 am]

BILLING CODE 6820-23-P